NATIONAL SCIENCE FOUNDATION

Committee on Equal Opportunities in Science and Engineering; Cancellation of Meeting

SUMMARY: As a result of the impact of the recent government shutdown, the National Science Foundation is issuing this notice to cancel the October 30, 2013 Committee on Equal Opportunities in Science and Engineering meeting. The public notice for this committee was published in the Federal Register on October 2, 2013 (FR Doc. 2013-23981, page 60918).

FOR FURTHER INFORMATION CONTACT: Bernice T. Anderson, National Science Foundation, 4201 Wilson Boulevard, Arlington, VA 22230, 703/292-5151 Email Address: banderso@nsf.gov.

Dated: October 23, 2013.
Susanne Bolton,
Committee Management Officer.

[FR Doc. 2013-25304 Filed 10-25-13; 8:45 am]

BILLING CODE 7555-01-P